DEPARTMENT OF COMMERCE

International Trade Administration

[A-588-804]

Ball Bearings and Parts Thereof from Japan: Amended Final Results of Antidumping Duty Administrative Review

AGENCY: Import Administration, International Trade Administration, Department of Commerce.

SUMMARY: On January 27, 2005, the United States Court of International Trade (CIT) sustained the United States Department of Commerce's (the Department's) redetermination on remand of the final results of the administrative review of the antidumping duty order on ball bearings and parts thereof from Japan for the period May 1, 2000, through April 30, 2001. One party appealed a portion of the CIT's decision to the United States Court of Appeals for the Federal Circuit (CAFC). On March 7, 2007, the CAFC affirmed the CIT's decision. Because all litigation has concluded, the Department is now issuing these amended final results of review reflecting the CIT's decision.

EFFECTIVE DATE: July 11, 2007.

FOR FURTHER INFORMATION CONTACT: Catherine Cartsos or Richard Rimlinger, AD/CVD Operations, Office 5, Import Administration, U.S. Department of Commerce, 14th Street and Constitution Avenue, NW., Washington, DC 20230; telephone: (202) 482-1757 or (202) 482-4477, respectively.

SUPPLEMENTAL INFORMATION:

Background

On August 30, 2002, the Department published the final results of administrative reviews of the antidumping duty order on ball bearings and parts thereof from Japan for the period May 1, 2000, through April 30, 2001. See Ball Bearings and Parts Thereof from France, Germany, Italy, Japan, and the United Kingdom; Final Results of Antidumping Duty Administrative Reviews, 67 FR 55780 (August 30, 2002). On October 15, 2002, the Department amended the final results. See Ball Bearings and Parts Thereof From Japan; Amended Final Results of Antidumping Duty Administrative Review, 67 FR 63608 (October 15, 2002). NTN Corp., NTN Bearing Corp. of America, American NTN Bearing Manufacturing Corp., NTN Driveshaft, and NTN-BCA Corp. (collectively NTN), filed a lawsuit challenging the final results. NSK Ltd., NSK Corp., NSK Bearings Europe, MPB Corp., Asahi Seiko Co., and Isuzu Motors, Ltd., were parties to this litigation but their dumping margins did not change as a result of the litigation. On August 20, 2004, the CIT affirmed the Department's final results in part and remanded the review to the Department in part to correct certain ministerial errors concerning the treatment of NTN's freight and warehouse expenses. See NSK Ltd. v. United States, 346 F. Supp. 2d 1312 (CIT 2004) (NSK Ltd.). Specifically, the CIT directed the Department to exclude NTN's export-price sales from the calculation of NTN's U.S. freight and warehouse expenses. In accordance with the CIT's remand order in NSK Ltd., the Department filed its remand results on October 19, 2004. In those remand results, the Department excluded export-price sales from the calculation of U.S. freight and warehouse expenses and recalculated NTN's margin accordingly.

On January 27, 2005, the CIT sustained the Department's final results of remand redetermination. See NSK Ltd. v. United States, 358 F. Supp. 2d 1313 (CIT 2005). NTN appealed the portion of the CIT's decision in which it sustained the Department's use of “facts otherwise available” and “adverse inferences” when determining NTN's antidumping duty margin. NTN did not appeal the CIT's remand order. On March 7, 2007, the CAFC affirmed the CIT's decision. See NSK Ltd. v. United States, 481 F.3d 1355 (Fed. Cir. 2007). On May 3, 2007, the CAFC denied a rehearing request. No further appeals were made. Therefore, the CIT's decision is now final and conclusive.

Amendment to Final Results

We are now amending the final results of this review to reflect the final and conclusive decision of the CIT. Our revised calculations for NTN changed the weighted-average margin for ball bearings from 9.34 percent to 9.30 percent for the period of review. The Department will instruct U.S. Customs and Border Protection to liquidate entries of ball bearings from Japan from NTN during the review period in accordance with these amended final results of review.

We are issuing and publishing this notice in accordance with sections 751(a)(1) and 777(i)(1) of the Act.

Dated: July 2, 2007.
David M. Spooner,
Assistant Secretary for Import Administration.

[FR Doc. E7-13478 Filed 7-10-07; 8:45 am]

BILLING CODE 3510-DS-S